DEPARTMENT OF VETERANS AFFAIRS

38 CFR Part 4

RIN 2900-AM60

Schedule for Rating Disabilities; Appendices A, B, and C; Correction

AGENCY: Department of Veterans Affairs.

ACTION: Final rule; correction.

SUMMARY: The Department of Veterans Affairs (VA) published a document in the Federal Register of March 20, 2007, revising its Schedule for Rating Disabilities, Appendices A, B, and C. The document inadvertently contained two typographical errors, and this document corrects those errors.

DATES: Effective Date: This correction is effective April 19, 2007.

FOR FURTHER INFORMATION CONTACT: Trude Steele, Regulations Staff (211D), Compensation and Pension Service, Veterans Benefits Administration, Department of Veterans Affairs, 810 Vermont Avenue, NW., Washington, DC 20420, (202) 273-7210.

SUPPLEMENTARY INFORMATION: The VA published a document in the Federal Register on March 20, 2007, (72 FR 12983) revising its Schedule for Rating Disabilities, Appendices A, B, and C to include all current diagnostic codes. In FR Doc. E7-4914, published on March 20, 2007, two typographical errors were inadvertently published. This document corrects those errors.

In rule FR Doc. E7-4914 published on March 20, 2007, (72 FR 12983) make the following corrections. On page 12984, in the third column, to the right of Diagnostic code No. 5264, the date “September 9, 1795” is corrected to read “September 9, 1975.” In addition, on page 12989, in the third column, to the right of Diagnostic code No. 9403, remove the phrase “criterion February 3, 1988” that appears immediately following the identical phrase “criterion February 3, 1988”.

Approved: March 29, 2007.
Robert C. McFetridge,
Assistant to the Secretary for Regulation Policy and Management.

[FR Doc. E7-6286 Filed 4-4-07; 8:45 am]

BILLING CODE 8320-01-P